ENVIRONMENTAL PROTECTION AGENCY

[OPP-34225I; FRL-6809-5]

Diazinon; Products Cancellation Order

AGENCY: Environmental Protection Agency (EPA).

ACTION: Notice.

SUMMARY: This notice announces EPA's cancellation order for the product and use cancellations as requested by companies (hereafter collectively referred to as the “EUP Registrants”) that hold the registrations of pesticide End-Use Products (EUPs) containing the active ingredient diazinon and accepted by EPA, pursuant to section 6(f) of the Federal Insecticide, Fungicide, and Rodenticide Act (FIFRA). This order follows up a September 13, 2001, notice of receipt from the EUP Registrants, of requests for cancellations and or amendments of their diazinon product registrations to terminate all indoor uses, certain agricultural uses and certain outdoor non-agricultural uses. In the September 13, 2001 notice, EPA indicated that it would issue an order granting the voluntary product and use registration cancellations unless the Agency received any substantive comment within the comment period that would merit its further review of these requests. The Agency did receive one request from an EUP registrant revoking its voluntary cancellation requests for two products. No other comments were received. Accordingly, EPA hereby issues in this notice a cancellation order granting the remaining requested cancellations. Any distribution, sale, or use of the products subject to this cancellation order is only permitted in accordance with the terms of the existing stocks provisions of this cancellation order.

DATES: The cancellations are effective November 15, 2001.

FOR FURTHER INFORMATION CONTACT: By mail: John Hebert, Special Review and Reregistration Division (7508C), Office of Pesticide Programs, Environmental Protection Agency, 1200 Pennsylvania Ave., NW., Washington, DC 20460; telephone number: (703) 308-6249; fax number: (703) 308-7042; e-mail address: hebert.john@epa.gov.

SUPPLEMENTARY INFORMATION:

I. General Information

A. Does this Action Apply to Me?

This action is directed to the public in general. You may be potentially affected by this action if you manufacture, sell, distribute, or use diazinon products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register — Environmental Documents.” You can also go directly to the Federal Register listings at http://www.epa.gov/fedrgstr/. To access information about the risk assessment for diazinon, go to the Home Page for the Office of Pesticide Programs or go directly to http://www.epa.gov/pesticides/op/diazinon.htm.

2. In person. The Agency has established an official record for this action under docket control number OPP 34225I. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Cancel and Amend Registrations to Delete Uses

A. Background

Certain registrants requested in letters dated May, June and August 2001, that their diazinon registrations be amended to delete all indoor uses, certain agricultural uses, and any other uses that the registrants do not wish to maintain. The requests also included deletions of outdoor non-agricultural uses from the labeling of certain end-use products so that such products would be labeled for agricultural uses only. Similarly, other diazinon end-use registrants requested voluntary cancellation of their diazinon EUP registrations with indoor use and/or certain outdoor non-agricultural uses, and any other uses that the registrants do not wish to maintain. EPA announced its receipt of these above-mentioned cancellation requests in a Federal Register notice dated September 13, 2001.

These requested cancellations and amendments are consistent with the requests in December 2000, by the manufacturers of diazinon technical products, and EPA's approval of such requests, to terminate all indoor uses and certain agricultural uses from their diazinon product registrations because of EPA's concern with the potential exposure risk, especially to children, associated with diazinon containing products. The indoor uses and agricultural uses subject to cancellation are identified in the following List.

List — Uses Requested for Termination

1. Indoor uses: Pet collars, or inside any structure or vehicle, vessel, or aircraft or any enclosed area, and/or on any contents therein (except mushroom houses), including food/feed handling establishments, greenhouses, schools, residences, museums, sports facilities, stores, warehouses and hospitals.

2. Agricultural uses: Alfalfa, bananas, Bermuda grass, dried beans, dried peas, celery, red chicory (radicchio), citrus, clover, coffee, cotton, cowpeas, cucumbers, dandelions, forestry (ground squirrel/rodent burrow dust stations for public health use), kiwi, lespedeza, parsley, parsnips, pastures, peppers, potatoes (Irish and sweet), sheep, sorghum, squash (winter and summer), rangeland, Swiss chard, tobacco, and turnips (roots and tops).

In today's Cancellation Order, EPA is approving the registrants' requested cancellations and amendments of the their diazinon end-use products registrations to terminate all uses identified in the List.

B. Requests for Voluntary Cancellation of End-Use Products

The end-use product registrations for which cancellation was requested are identified in the following Table 1.

Table 1. — End-Use Product Registration Cancellation Requests
Company | Reg. No. | Product
Value Garden Supply, LLC | 70-177 | Kill-Ko Diazinon 2E Insect Spray
| 70-249 | Rigo Diazinon AG 500 Insecticide
| 70-252 | Rigo Diazinon 5% Granules
| 192-145 | Dexol Diazinon 25% Insect Spray
| 192-165 | Dexol Diazinon 2% Granules
| 192-194 | Dexol Ant & Roach Killer
| 192-208 | Dexol Diazinon Insect Spray
| 769-569 | Stephenson Chemicals D.P.S. Roach Powder
| 769-571 | Suregard Diazinon Spray
| 769-630 | SMCP Special Residual Insect Spray
| 769-750 | PCE Diazinon-Pyrethrum Residual Spray
| 769-754 | PCE Diazinon DDVP Residual Spray
| 769-755 | X-It Formula 120
| 769-768 | PCE Diazinon Roach Dust
| 769-769 | Formulation 050
| 769-784 | Di-Azz Ready-to-Use
| 769-791 | Superior Dy-All
| 769-824 | PCO Crack & Crevice
| 769-861 | Pratt Diazinon 25E Insect Spray
| 769-862 | Pratt Diazinon 5% Granular Lawn Insect Control
| 769-863 | Pratt Diazinon 2% Granular Lawn Insect Control
| 769-890 | Agrisect Diazinon 5% Granular
| 769-891 | Agrisect Brand Insecticide Diazinon 2% Dust for Military Use
| 769--922 | Science 5% Diazinon Dust
| 769-930 | Warner Enterprises Ant, Roach & Spider Spray
| 769-956 | Pratt 14% Diazinon
| 769-974 | Diazinon 22.4% Lawn & Garden Water Based Insecticide
| 5887-104 | Black Leaf 5% Diazinon Dust
| 5887-124 | Black Leaf 5% Diazinon Granules
| 5887-132 | Black Leaf 25% Diazinon
Whitmire Micro-Gen Research Laboratories, Inc. | 499-228 | PT 265 - A Knox Out Microencapsulated Diazinon
| 499-330 | Whitmire TKO Microencapsulated Diazinon (PT 265)
| 499-422 | TC 132 (TKO PT 265-Greenhouse)
Prentiss Incorporated | 655-462 | Prentox Diazinon 4S Insecticide
| 655-465 | Prentox Diazinon 2D Insecticide Dust
| 655-645 | Prentox Diazinon Emulsifiable Concentrate
| 655-799 | Prentox Diazinon Lawn & Garden Insecticide
Green Light Company | 869-219 | Green Light Diazinon 25
PBI Gordon Corporation | 2217-496 | Gordon's Wasp & Hornet Bomb
Sergeant's Pet Products, Inc. | 2517-24 | Double Duty Plus Flea & Tick Collar with Nutrisorb for Dogs
| 2517-25 | Double Duty Plus Flea & Tick Collar with Nutrisorb for Cats
| 2517-29 | Double Duty Reflecting Flea & Tick Collar for Cats
| 2517-30 | Double Duty Reflecting Flea & Tick Collar
Cerexagri, Inc. | 4581-379 | KNOX OUT GH
Helena Chemical Company | 5905-441 | Omni-Diazinon
| 5905-444 | Helena Diazinon 40W
| 5905-525 | Diazinon 4EC
Chemical Packaging Corp. | 7405-2 | Chemi-Cap Roach and Ant Killer
Pursell Industries, Inc. | 8660-46 | VertaGreen Household Insecticide
| 8660-59 | VertaGreen Sod Webworm Spray
| 8660-79 | VertaGreen Diazinon 12.5% Insect Spray
| 8660-89 | VertaGreen Diazinon 500 Insecticide
| 8660-91 | VertaGreen Diazinon Insecticide 25 Emulsifiable Concentrate
| 8660-95 | VertaGreen for Pro Use Diazinon 14G
| 8660-103 | VertaGreen Lawn Food & Insecticide
| 8660-124 | VertaGreen Diazinon AG 500 Insecticide
| 8660-206 | Koos Nature's Best Lawn & Garden Insect Control
| 8660-233 | Vigro 5% Diazinon Granules Lawn & Garden Insect Control
Spectrum Group, Division of United Industries Corp. | 8845-94 | Sprectracide Crawling Insect Control Granules
| 8845-124 | Sprectracide Granules Formula 2
Safeguard Chemical Corp. | 8848-4 | 5-11 Roach and Bug Killer
| 8848-55 | Black Jack Roach & Ant Killer IV
| 8848-56 | 707 Residual Formula-4 Roach Bomb
| 8848-57 | 707 Landlord's Formula Two
| 8848-58 | 707 Residual Formula #2
Sunniland Corporation | 9404-65 | 25% Diazinon Liquid Concentrate
Chemsico, Division of United Industries Corp. | 9688-92 | Chemsico Granules Formula 1
| 9688-128 | Chemsico Diazinon Insect Spray
| 9688-132 | Chemsico Insecticide PD
Agriliance | 9779-212 | Diazinon 4E
The Sherman Williams Co. | 10900-96 | Rescue Ant & Roach
Sungro Chemicals, Inc. | 11474-31 | Sungro Residual Roach Dope
| 11474-34 | Sunbugger Residual Ant & Roach Aqueous
| 11474-72 | Power Residual Spray
Speer Products Incorporated | 11715-3 | Speer Bug Killer
| 11715-16 | Speer Professional Formulation Diazion Bug Killer
| 11715-51 | Speer Insecticide Diazinon
| 11715-90 | Speer Professional Home Pest Control
| 11715-124 | Better World Multi-Purpose Aqueous Spray
| 11715-216 | Sudbury Diazinon Insect Spray
| 11715-296 | 5% Diazinon Granules Lawn & Garden Insect Control
Louisiana Chemical U.S.A., Incorporated | 11746-32 | Davis Kill-A-Bug III
| 11746-33 | Davis Kill-A-Bug IV
| 11746-42 | Davis Kill-A-Bug 4E
Drexel Chemical Company | 19713-92 | Drexel D-264 4E
Unicorn Laboratories | 28293-229 | Unicorn Diazinon 4E
| 28293-240 | Unicorn Diazinon Granular Lawn Insect Control
| 28293-241 | Unicorn Diazinon 1/2%% EW Insecticide
| 28293-242 | Unicorn Diazinon Home Pest Control Insecticide
| 28293-243 | Unicorn Diazinon Home Pest Control Insecticide II
| 28293-244 | Unicorn Diazinon Home Pest Control Pressurized Insecticide
| 28293-245 | Unicorn Diazinon 1% ME Insecticide
| 28293-246 | Unicorn Diazinon 0.5 RTU Insecticide
| 28293-247 | Unicorn Diazinon 2.0 Insecticide
| 28293-248 | Unicorn Diazinon 1/2%% ME Insecticide
| 28293-249 | Unicorn Diazinon 1% EW Insecticide
| 28293-250 | Unicorn Diazinon 5.0 EW Insecticide
| 28293-251 | Unicorn Diazinon 2D Insecticide Dust
Professional Supply, Inc. | 37915-4 | Professional Brand Pest Control Formula D 4E
Quest Chemical Corp. | 44446-7 | CS 101 Roach and Ant Spray
| 44446-44 | Double Trouble Water Base Diazinon Roach and Ant Spray
Celex, Division of United Industries Corp. | 46515-17 | Super K-GRO Fruit & Vegetable Insect Control
Marman USA, Inc. | 48273-24 | Marman Diazinon 48 EC
Alljack, Division of United Industries Corp. | 49585-3 | Diazinon Granules
| 49585-5 | Diazinon Soil & Turf
MicroFlo Company | 51036-64 | Diazinon 4E
| 51036-197 | Diazinon 4E AG
ProGuard, Inc. | 58866-10 | Master Nurseyman Diazinon-25 Insect Control
PM Resources, Inc. | 67517-18 | Diazinon Insecticide 25E
| 67517-29 | Diazinon Granules 5%
| 67517-62 | Diazinon Lawn & Garden WBC
Contract Packaging, Inc. | 67572-79 | CP Diazinon Lawn & Garden WB Concentrate

The Agency received a request from the EUP registrant Prentiss Incorporated (EPA company number 655), revoking its voluntary cancellation requests for two products that were included in the September 13, 2001 notice. As a result, Prentox Liquid Household Spray #1 (EPA registration no. 655-419) and Prentox Diazinon 4E (EPA registration no. 655-457) are not included in this cancellation order. EPA did not receive any substantive comments that would merit further review expressing a need of diazinon products for indoor use. Accordingly, the Agency is issuing an order in this notice canceling the registrations identified in Table 1, as requested by the EUP registrants.

C. Requests for Voluntary Amendments of End-Use Product Registrations to Terminate Certain Uses

Pursuant to section 6(f)(1)(A) of FIFRA, many EUP registrants submitted requests to amend a number of their diazinon end-use product registrations to terminate the uses identified in the List, or any other uses as specified for each product in the September 13, 2001 Diazinon 6(f) notice and reiterated in Table 2 below. EPA did not receive any comments expressing a need for any of the canceled uses. The registrations for which amendments to terminate specific uses were requested are identified in the following Table 2.

Table 2. — End-Use Product Registration Amendment Requests
Company | Reg. No. | Product Name | Use Deletions
The Scotts Company | 239-2479 | Ortho Diazinon Soil and Turf Insect Control | Celery
Prentiss, Inc. | 655-556 | Diazinon 5G Insecticide | Celery
| 655-557 | Prentox Diazinon 14G | Beans (lima, pole, snap; succulent varieties only), celery, cucumbers, parsley, peas (succulent varieties only), peppers, potatoes, squash (summer and winter), sweet potatoes, Swiss chard, and turnips.
Southern Agricultural Insecticides, Inc. | 829-262 | SA-50 Diazinon AG 500 Insecticide | Cucumbers, peppers, potatoes, squash (summer and winter), Swiss chard, lawns, grasslands insects, and nuisance pests in outside areas.
Green Light Home Garden | 869-139 | Green Light Diazinon 5 Granules | Celery
| 869-231 | Green Light Diazinon | Almonds
Lebanon Seaboard Corporation | 961-358 | Lebanon Lawn and Garden Insecticide with Diazinon 5G | Celery
Wilbur-Ellis Company | 2935-388 | Diazinon 4 Spray | Beans, cucumbers, parsley, parsnips, peas, peppers, potatoes, squash, sweet potatoes, Swiss chard, turnips, grasslands, ditch banks, roadsides, wasteland, non-crop areas, barrier strips, ornamentals, (not grown outdoor in nurseries), lawn pest control, and nuisance pests in outside areas.
| 2935-408 | Diazinon 14G | Beans, celery, cucumbers, parsley, peas, peppers, potatoes, squash, sweet potatoes, Swiss chard, and turnips.
Cerexagri, Inc. | 4581-392 | KNOX OUT NL | Commercial landscape uses (ornamentals in landscaped, mulched, or plant bed areas of commercial properties).
Helena Chemical Company | 5905-248 | Diazinon AG 500 Insecticide | Beans (lima, snap, and pole; succulent only), parsley, parsnips, peas (succulent only), peppers, potatoes (Irish), squash (summer and winter), sweet potatoes, Swiss chard, ornamentals (except outdoor nurseries only), lawns, and nuisance pests in outdoor areas.
| 5905-262 | Diazinon 14G | Beans (lima, snap, and pole; succulent only), parsley, peas (succulent only), peppers, potatoes, squash (summer and winter), sweet potatoes, and Swiss chard.
| 5905-474 | Helena Diazinon 7E Insecticide | Beans (lima, snap, and pole; succulent only), parsley, parsnips, peas (succulent only), peppers, potatoes (Irish), squash (summer and winter), sweet potatoes, Swiss chard, ornamentals (except outdoor nurseries only), lawns, grassland insects, and nuisance pests in outside areas.
| 5905-526 | Diazinon 50 WP Insecticide | Beans (lima, snap, and pole; succulent only), parsley, parsnips, peas (succulent only), peppers, potatoes (Irish), squash (summer and winter), sweet potatoes, Swiss chard, ornamentals (except outdoor nurseries only), lawns, livestock insects, fly control in livestock structures, lawns, and nuisance pests in outside areas.
Chemsico, Division of United Industries Corporation | 8845-92 | Spectracide Lawn & Garden Insect Control Concentrate | Almonds
| 8845-95 | Spectracide 6000 Lawn & Garden Insect Control | Celery
The Andersons, Inc. | 9198-62 | The Andersons Lawn and Garden Insecticide 5% Diazinon | Celery
Lesco | 10404-23 | LESCO Diazinon 5G Granular Insecticide | Celery
Howard Johnson's Enterprises, Inc. | 32802-5 | All Season Diazinon 5G Insecticide | Celery
PBI Gordon Corporation | 33955-556 | Acme Diazinon 25% Emulsifiable Concentrate | Almonds
| 33955-557 | Acme Diazinon 5G Lawn & Garden Insect Control | Celery
Platte Chemical Co. | 34704-41 | Clean Crop Diazinon AG 500 Insecticide | Cucumbers, parsley, parsnips, peppers, potatoes, squash (summer and winter), sweet potatoes, Swiss chard, turnips, grassland insects, lawns, and nusiance pests in outside areas.
| 34704-57 | Clean Crop Diazinon 5 Lawn & Garden | Celery
| 34704-230 | Diazinon G-14 | Celery, cucumbers, parsley, peppers, potatoes, squash (summer and winter), sweet potatoes, Swiss chard, and turnips.
| 34704-231 | Diazinon 500 AG | Cucumbers, parsley, parsnips, peppers, potatoes, squash (summer and winter), sweet potatoes, Swiss chard, turnips, grassland insects, lawn pest control, and nuisance pests in outside areas.
| 34704-435 | Clean Crop Diazinon 50WP Insecticide | Cucumbers, parsley, parsnips, peppers, potatoes, squash (summer and winter), sweet potatoes, Swiss chard, turnips, grassland insects, livestock insects, fly control in livestock structures, lawns, and nusiance pests in outside areas.
| 34704-493 | Diazinon 5 Granules | Celery, collards, cucumbers, parsley, peppers, potatoes, squash (summer and winter), sweet potatoes, Swiss chard, turnips, lawns, and band treatment around house foundation.
Professional Supply, Inc. | 37915-6 | Professional Brand Pest Control Formula DC-500 | Pole beans
Enforcer Products, a Division of National Service Industries, Inc. | 40849-30 | Enforcer Ant Kill Granules II | Pole beans and celery
Morgro, Inc. | 42057-90 | Morgro Diazinon 25% Spray | Oranges
| 42057-107 | Morgro 5% Diazinon Granules | Celery
Walla Walla Environmental | 47332-4 | CPF 2D | Farm buildings including dairy barns and milk parlors warehouses, office buildings, theaters, schools, motels, hotels, factories, and out buildings.
Mircro Flo Company | 51036-97 | Diazinon 5G Homeowner | Celery
Gro Tec, Inc. | 59144-2 | 5% Diazinon Granules | Pole beans and celery
| 59144-28 | Diazinon Lawn & Garden Insecticide | Almonds and pole beans
Hacco, Inc. | 61282-25 | Diazinon Lawn & Garden WBC | Almonds
Guardsman Products, Inc. | 62366-2 | Bug Stuff | Office buildings, schools, hotels, motels, warehouses, theaters, barns, farm buildings (including dairy barns and milk parlors), factories, and out buildings.
Contract Packaging, Inc. | 67572-1 | CP Diazinon Lawn & Garden WB Ready-to-Use | Almonds and pole beans

III. Cancellation Order

Pursuant to section 6(f) of FIFRA, EPA hereby approves the requested cancellations of diazinon product and use registrations identified in Tables 1 and 2 of this notice. Accordingly, the Agency orders that the diazinon end-use product registrations identified in Table 1 are hereby canceled. The Agency, also orders that all of the uses identified in the List and all other uses (including specific outdoor non-agricultural uses) identified for deletion in Table 2 are hereby canceled from the end-use product registrations identified in Table 2. Any distribution, sale, or use of existing stocks of the products identified in Tables 1 and 2 in a manner inconsistent with the terms of this Order or the Existing Stock Provisions in Unit IV of this notice will be considered a violation of section 12(a)(2)(K) of FIFRA and/or section 12(a)(1)(A) of FIFRA.

IV. Existing Stocks Provisions

For purposes of this Order, the term “existing stocks” is defined, pursuant to EPA's existing stocks policy (56 FR 29362, June 26, 1991), as those stocks of a registered pesticide product which are currently in the United States and which have been packaged, labeled, and released for shipment prior to the effective date of the amendment or cancellation. The existing stocks provisions of this Cancellation Order are as follows:

1. Distribution or sale of products bearing instructions for use on agricultural crops. The distribution or sale of existing stocks by the registrant of any product listed in Table 1 or 2 that bears instructions for use on the agricultural crops identified in the List, will not be lawful under FIFRA 1 year after the effective date of the cancellation order, except for the purposes of shipping such stocks for export consistent with section 17 of FIFRA or for proper disposal. Persons other than the registrant may continue to sell or distribute the existing stocks of any product listed in Table 2 that bears instructions for any of the agricultural uses identified in the List after the effective date of the cancellation order.

2. Distribution or sale of products bearing instructions for use on outdoor non-agricultural sites. The distribution or sale of existing stocks by the registrant of any product listed in Table 1 or 2 that bears instructions for use on outdoor non-agricultural sites, will not be lawful under FIFRA 1 year after the effective date of the cancellation order, except for the purposes of shipping such stocks for export consistent with section 17 of FIFRA or for proper disposal. Persons other than the registrant may continue to sell or distribute the existing stocks of any product listed in Table 1 or 2 that bears instructions for use on outdoor non-agricultural sites after the effective date of the cancellation order.

3. Distribution or sale of products bearing instructions for use on indoor sites. The distribution or sale of existing stocks by the registrant of any product listed in Table 1 or 2 that bears instructions for use at or on any indoor sites (except mushroom houses), shall not be lawful under FIFRA as of the effective date of the cancellation order, except for the purposes of shipping such stocks for export consistent with section 17 of FIFRA or for proper disposal.

4. Retail and other distribution or sale of existing stock of products for indoor use. The distribution or sale of existing stocks by any person other than the registrants of products listed in Table 1 or 2 bearing instructions for any indoor uses except mushroom houses will not be lawful under FIFRA after December 31, 2002 except for the purposes of shipping such stocks for export consistent with section 17 of FIFRA or for proper disposal.

5. Use of existing stocks. EPA intends to permit the use of existing stocks of products listed in Table 1 or 2 until such stocks are exhausted, provided such use is in accordance with the existing labeling of that product.

Lists of Subjects

Environmental protection, Memorandum of Agreement, Pesticides and pests.

Dated: November 2, 2001.
Jack E. Housenger,
Acting Director, Special Review and Reregistration Division, Office of Pesticide Programs.

[FR Doc. 01-28635 Filed 11-14-01; 8:45 a.m.]

BILLING CODE 6560-50-S